DEPARTMENT OF TRANSPORTATION

Federal Aviation Administration

14 CFR Part 39

[Docket No. FAA-2016-5594; Directorate Identifier 2014-NM-169-AD]

RIN 2120-AA64

Airworthiness Directives; Dassault Aviation Airplanes

AGENCY: Federal Aviation Administration (FAA), DOT.

ACTION: Notice of proposed rulemaking (NPRM).

SUMMARY: We propose to adopt a new airworthiness directive (AD) for all Dassault Aviation Model FALCON 900EX and FALCON 2000EX airplanes. This proposed AD was prompted by a review that identified a nonconformity between the torque value applied to the screw-nuts of aileron servo actuators, and the torque value specified by the type design. This proposed AD would require replacing certain aileron servo actuators with serviceable servo actuators. We are proposing this AD to prevent desynchronization between two servo actuator barrels, which could lead to reduced control of the airplane during roll maneuvers at low altitude.

DATES: We must receive comments on this proposed AD by June 6, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5594; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1139.

SUPPLEMENTARY INFORMATION:

Comments Invited

We invite you to send any written relevant data, views, or arguments about this proposed AD. Send your comments to an address listed under the ADDRESSES section. Include “Docket No. FAA-2016-5594; Directorate Identifier 2014-NM-169-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0184, dated August 7, 2014 (referred to after this as the Mandatory Continuing Airworthiness Information, or “the MCAI”), to correct an unsafe condition for all Dassault Aviation Model FALCON 900EX and FALCON 2000EX airplanes. The MCAI states:

A quality review of recently delivered aeroplanes identified a non-conformity concerning the torque value applied to screw-nuts of aileron servo actuators, which was inconsistent with the value specified by the type design.

The subsequent investigation demonstrated that the washer which is bent on nut and rod ensures the affected selector synchronisation between two servo actuator barrels for a minimum of 2,000 flight hours (FH). After this period, a possible de-synchronization of the affected selector assembly may occur.

This condition, if not corrected, could lead to reduced control of the aeroplane during roll manoeuvers at low altitude.

To address this potential unsafe condition, Dassault Aviation issued Service Bulletin (SB) F900EX-476 Revision 1 and SB F2000EX-350 to provide replacement instructions for the affected aileron servo actuators, as applicable to aeroplane type.

For the reasons described above, this [EASA] AD requires replacement of affected aileron servo actuators with serviceable parts. This [EASA] AD also identifies that the affected aileron servo actuators can be re-qualified as serviceable parts only after a refurbishment accomplished by an approved maintenance organization.

You may examine the MCAI in the AD docket on the Internet at http://www.regulations.gov by searching for and locating Docket No. FAA-2016-5594.

Related Service Information Under 1 CFR Part 51

We reviewed Dassault Service Bulletins F900EX-476, Revision 1, dated June 25, 2014; and F2000EX-350, dated April 9, 2014. This service information describes procedures for removing the aileron servo actuator. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 284 airplanes of U.S. registry.

We also estimate that it would take about 14 work-hours per product to comply with the basic requirements of this proposed AD. The average labor rate is $85 per work-hour. Required parts would cost about $43,460 per product. Based on these figures, we estimate the cost of this proposed AD on U.S. operators to be $12,680,600, or $44,650 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2016-5594; Directorate Identifier 2014-NM-169-AD.

(a) Comments Due Date

We must receive comments by June 6, 2016.

(b) Affected ADs

None.

(c) Applicability

This AD applies to all Dassault Aviation Model FALCON 900EX and FALCON 2000EX airplanes, certificated in any category.

(d) Subject

Air Transport Association (ATA) of America Code 27, Flight Controls.

(e) Reason

This AD was prompted by a review that identified a nonconformity between the torque value applied to the screw-nuts of aileron servo actuators, and the torque value specified by the type design. We are issuing this AD to prevent desynchronization between two servo actuator barrels, which could lead to reduced control of the airplane during roll maneuvers at low altitude.

(f) Compliance

Comply with this AD within the compliance times specified, unless already done.

(g) Replacement of Aileron Servo Actuator

At the later of the applicable time specified in paragraphs (g)(1) and (g)(2) of this AD: Replace each affected aileron servo actuator, as identified in figure 1 to paragraph (g) of this AD (for Model FALCON 900EX airplanes) or figure 2 to paragraph (g) of this AD (for Model FALCON 2000EX airplanes), with a serviceable part in accordance with the Accomplishment Instructions of Dassault Service Bulletin F900EX-476, Revision 1, dated June 25, 2014; or Dassault Service Bulletin F2000EX-350, dated April 9, 2014; except where Dassault Service Bulletin F900EX-476, Revision 1, dated June 25, 2014; or F2000EX-350, dated April 9, 2014; specify to “remove” the applicable aileron servo actuator, this AD requires replacement of the applicable aileron servo actuator. A serviceable part is one that is specified in the “New P/N” column in the table of paragraph 3., “Material Information,” of Dassault Service Bulletin F900EX-476, Revision 1, dated June 25, 2014; or Dassault Service Bulletin F2000EX-350, dated April 9, 2014.

(1) For airplanes on which the aileron servo actuator was not replaced during maintenance: At the later of the times specified in paragraphs (g)(1)(i) and (g)(1)(ii) of this AD.

(i) Within 25 months or 1,640 flight hours, whichever occurs first, since the date of issuance of the original airworthiness certificate or date of issuance for the original export certificate of airworthiness.

(ii) Within 30 days after the effective date of this AD.

(2) For airplanes on which the aileron servo actuator was replaced during maintenance: At the later of the times specified in paragraphs (g)(2)(i) and (g)(2)(ii) of this AD.

(i) Within 1,640 flight hours after replacement of the aileron servo actuator during maintenance.

(ii) Within 30 days after the effective date of this AD.

Note 1 to paragraph (g) of this AD: The affected aileron servo actuators are known to be installed on the following airplanes: Prior to airplane delivery, on Model FALCON 900EX airplanes having serial number (S/N) 265 through 270 inclusive, S/N 272 and S/N 273, and on Model FALCON 2000EX airplanes having S/N 243, S/N 246 through 258 inclusive, S/N 260 through 263 inclusive, S/N 702 through 710 inclusive and S/N 714; and after airplane delivery, during a maintenance operation on Model FALCON 900EX airplane having S/N 177.

Figure 1 to Paragraph (g) of This AD—Affected Actuators on Model FALCON 900EX Airplanes
Model FALCON 900EX airplane having S/N— | With actuator part no. (P/N)— | And actuator S/N—
177 | 103117-06 | 5003
265 | 103117-06 | 5002
266 | 103117-05 | 5000
| 103117-06 | 5007
267 | 103117-05 | 5001
268 | 103117-05 | 5004
269 | 103117-05 | 5005
| 103117-06 | 5011
270 | 103117-06 | 5012
| 103117-13 | 5017
272 | 103117-05 | 5010
| 103117-14 | 5016
273 | 103117-13 | 5014
| 103117-14 | 5020

Figure 2 to Paragraph (g) of This AD—Affected Actuators on Model FALCON 2000EX Airplanes
Model FALCON 2000EX airplane having S/N— | With actuator P/N— | And actuator S/N—
243 | 103151-08 | 5002
246 | 103151-07 | 5000
| 103151-08 | 5003
247 | 103151-07 | 5001
| 103151-08 | 5006
248 | 103151-07 | 5004
| 103151-08 | 5007
249 | 103151-07 | 5005
| 103151-08 | 5012
250 | 103151-07 | 5008
| 103151-08 | 5013
251 | 103151-07 | 5009
| 103151-08 | 5014
252 | 103151-07 | 5011
| 103151-08 | 5016
253 | 103151-07 | 5010
| 103151-08 | 5015
254 | 103151-08 | 5017
| 103151-07 | 5018
255 | 103151-07 | 5019
| 103151-08 | 5022
256 | 103151-07 | 5021
| 103151-08 | 5023
257 | 103151-08 | 5024
| 103151-07 | 5026
258 | 103151-07 | 5027
| 103151-08 | 5033
260 | 103151-08 | 5032
| 103151-07 | 5035
261 | 103151-08 | 5037
| 103151-07 | 5041
262 | 103151-08 | 5039
| 103151-07 | 5047
263 | 103151-08 | 5044
| 103151-09 | 5064
702 | 103151-07 | 5029
703 | 103151-07 | 5034
| 103151-08 | 5042
704 | 103151-08 | 5036
| 103151-07 | 5040
705 | 103151-08 | 5038
| 103151-07 | 5046
706 | 103151-08 | 5043
| 103151-07 | 5048
707 | 103151-07 | 5054
| 103151-08 | 5057
708 | 103151-08 | 5045
| 103151-07 | 5050
709 | 103151-08 | 5074
710 | 103151-07 | 5051
| 103151-08 | 5053
714 | 103151-09 | 5065
| 103151-10 | 5067

(h) Parts Installation Limitation

As of the effective date of this AD, no aileron servo actuator having a P/N and S/N listed in figure 1 to paragraph (g) of this AD or figure 2 to paragraph (g) of this AD is allowed to be installed on any airplane, unless the mark “D1” is included on the actuator repair placard.

Note 2 to paragraph (h) of this AD: The mark “D1” on an aileron servo actuator repair placard indicates that the affected part has been refurbished by an approved maintenance organization and is qualified as a serviceable part.

(i) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1139. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(j) Related Information

(1) Refer to Mandatory Continuing Airworthiness Information (MCAI) EASA Airworthiness Directive 2014-0184, dated August 7, 2014, for related information. This MCAI may be found in the AD docket on the Internet at http://www.regulations.gov by searching for and locating Docket No. FAA-2016-5594.

(2) For service information identified in this AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Issued in Renton, Washington, on April 8, 2016.
Michael Kaszycki,
Acting Manager, Transport Airplane Directorate, Aircraft Certification Service.

[FR Doc. 2016-09003 Filed 4-19-16; 8:45 am]

BILLING CODE 4910-13-P